DEPARTMENT OF HEALTH AND HUMAN SERVICES

Centers for Disease Control and Prevention

Guide to Community Preventive Services Task Force; Notice of Meeting

Office of the Director, Centers for Disease Control and Prevention (CDC), announces the following meeting:

Name: Guide to Community Preventive Services (GCPS) Task Force Meeting.

Times and Dates: 9 a.m.-5 p.m., June 21, 2000. 8:30 a.m.-3:15 p.m., June 22, 2000.

Place: The Radisson Hotel Atlanta Airport, 5010 Old National Highway, Atlanta, Georgia 30349, telephone (404) 761-4000.

Status: Open to the public, limited only by the space available. The meeting room accommodates approximately 40 people.

Purpose: The mission of the Task Force is to develop and publish a Guide to Community Preventive Services, which is based on the best available scientific evidence and current expertise regarding essential public health services and what works in the delivery of those services.

Matters to be Discussed: Agenda items include: Final recommendation approvals on the Tobacco Chapter, recommendation approvals for the Oral Health, Physical Activity, Sociocultural Environment, and Sexual Behavior Chapters, an update on dissemination/evaluation plans, updates for the following chapters: Nutrition, Alcohol Use and Misuse, Prevention of Mental Disorders, Cancer, Motor Vehicle Occupant Injury (seat belts and Alcohol Impaired Driving), Violent and Abusive Behavior, and Diabetes, summaries of economic evaluations from the Tobacco Chapter, a general update on economic evaluations from other chapters, and briefings on cross-cutting activities including methods development and development of a cross-cutting chapter.

Agenda items are subject to change as priorities dictate.

Contact Person for Additional Information: Bradford Myers, Deputy Director, Community Guide Section, Division of Prevention Research and Analytic Methods, Epidemiology Program Office, CDC, 4770 Buford Highway, M/S K-73, Atlanta, Georgia 30341, telephone 770/488-8189.

Persons interested in reserving a space for this meeting should call 770/488-8189 by close of business on June 19, 2000.

The Director, Management Analysis and Services office has been delegated the authority to sign Federal Register notices pertaining to announcements of meetings and other committee management activities, for both the Centers for Disease Control and Prevention and the Agency for Toxic Substances and Disease Registry.

Dated: June 12, 2000.
John Burckhardt,
Acting Director, Management Analysis and Services Office, Centers for Disease Control and Prevention.

[FR Doc. 00-15245 Filed 6-14-00; 8:45 am]

BILLING CODE 4163-18-P